DEPARTMENT OF HEALTH AND HUMAN SERVICES

National Institutes of Health

Request for Information (RFI): National Institute for Mental Health Strategic Plan Evaluation.

AGENCY: National Institutes of Health, HHS.

ACTION: Notice.

SUMMARY: The National Institute of Mental Health (NIMH), National Institutes of Health (NIH) is soliciting feedback on its current Strategic Plan for Research to inform the development of future strategic plans.

DATES: Comments must be received on or before (11:59:59 p.m. ET) on July 24, 2024 to ensure consideration.

ADDRESSES: Responses to this RFI must be submitted electronically using the web-based form at: https://rfi.grants.nih.gov/?s=662fcf74748dc0f159063c02.

FOR FURTHER INFORMATION CONTACT: Eliza Jacobs-Brichford, Ph.D., Science Policy and Evaluation Branch, Office of Science Policy, Planning, and Communications (OSPPC), National Institute of Mental Health, 6001 Executive Boulevard, MSC 9663, Telephone: 1-866-615-6464 (toll-free), 1-301-443-8431 (TTY), 1-866-415-8051 (TTY toll-free), Fax: 1-301-443-4279, Email: NIMHStratPlan@mail.nih.gov.

SUPPLEMENTARY INFORMATION:

Background

NIMH is the lead Federal agency for research on mental illnesses. NIMH's mission is to transform the understanding and treatment of mental illnesses through basic and clinical research, paving the way for prevention, recovery, and cure. NIMH is guided by its Strategic Plan for Research, which outlines the institute's priorities, spanning fundamental science to public health impact. This notice is in accordance with the 21st Century Cures Act; NIH Institutes are required to regularly update their strategic plans.

Information Requested

NIMH is seeking feedback on its current Strategic Plan for Research (https://www.nimh.nih.gov/about/strategic-planning-reports) to improve the potential usability, effectiveness, and impact of future strategic plans. In particular, NIMH is interested in learning:

• Who is using the Strategic Plan

• How people are using the Strategic Plan

• What elements (e.g., content, format, organization) in the Strategic Plan are useful, and which are not

• What is missing from the Strategic Plan

Submitting a Response

Responses are welcome from all interested parties, including but not limited to academic and research institutions; professional associations, organizations, and societies; advocacy organizations; and members of the public. We appreciate your input and invite you to share this RFI opportunity with your colleagues and others in your community. This RFI is for information and planning purposes only and should not be construed as a solicitation or as an obligation on the part of the Federal Government in general, the NIH, or NIMH specifically. Responses to this RFI are voluntary. Respondents are advised that the Government is under no obligation to acknowledge receipt of the information shared or provide feedback to respondents with respect to any information submitted.

Submitted information will not be considered confidential. No proprietary, classified, confidential, or sensitive information should be included in your response.

Shelli Avenevoli,
Acting Director, National Institute of Mental Health, National Institutes of Health.

[FR Doc. 2024-14251 Filed 6-27-24; 8:45 am]

BILLING CODE 4140-01-P